DEPARTMENT OF HEALTH AND HUMAN SERVICES

Administration for Children and Families

Proposed Information Collection Activity: Risk Determination Hearings for Unaccompanied Children (New Collection)

AGENCY: Office of Refugee Resettlement, Administration for Children and Families, U.S. Department of Health and Human Services.

ACTION: Request for public comments.

SUMMARY: The Office of Refugee Resettlement (ORR), Administration for Children and Families (ACF), U.S. Department of Health and Human Services (HHS), is inviting public comments on the proposed collection. The request consists of several forms that will allow the Unaccompanied Children (UC) Program to implement a new set of hearings (“Risk Determination Hearings”), which will serve as due process protections for children in ORR care.

DATES: Comments due within 60 days of publication. In compliance with the requirements of the Paperwork Reduction Act of 1995, ACF is soliciting public comment on the specific aspects of the information collection described in this notice.

ADDRESSES: You can obtain copies of the proposed collection of information and submit comments by emailing infocollection@acf.hhs.gov. Identify all requests by the title of the information collection.

SUPPLEMENTARY INFORMATION:

Description: ORR plans to create a new information collection containing five instruments in order to implement risk determination hearings for unaccompanied children. This new information collection will replace the Flores bond hearing process. The new instruments will not take effect until the underlying regulations at 45 CFR part 410 on which they are based take effect. The UC Program issued a notice of proposed rulemaking in October 2023, which aims to adopt and replace regulations relating to key aspects of the placement, care, and services provided to unaccompanied children referred to ORR. The UC Program is currently adjudicating public comments received and preparing to publish the Final Rule in the second quarter of calendar year 2024; the Final Rule will take effect 30 days after publishing.

Risk Determination Hearing Forms

These forms are provided to unaccompanied children placed in ORR custody by their case manager or by individuals associated with the HHS Departmental Appeals Board (DAB), which is responsible for the actual day-to-day logistical operations of these hearings. These instruments are provided to all unaccompanied children placed in a restrictive setting (i.e., secure facilities [including residential treatment facilities] and heightened supervision facilities), and to unaccompanied children placed in other types of facilities upon request. They will be translated into Spanish and other languages, as necessary.

• Request for Risk Determination Hearing (Form RDH-1): The unaccompanied child, the child's parent/legal guardian, or the child's representative may use this instrument to request a Risk Determination hearing. Children in heightened security placements who initially waive a hearing may use this form to later request a hearing; the form may also be used by children in non-restrictive settings to request a hearing.

• Risk Determination Hearing Opt-Out (Form RDH-2): The unaccompanied child or the child's representative may use this instrument to opt out of a Risk Determination hearing.

• Appointment of Representation for Risk Determination hearing (Form RDH-3): The unaccompanied child or the child's parent/legal guardian may use this instrument to appoint a representative to act on the child's behalf throughout the Risk Determination hearing process and consent to the release of any records that are related to the child's case to that representative.

• Risk Determination Hearing Transcript Request (Form RDH-4): The unaccompanied child, the child's parent/legal guardian, or the child's representative may use this instrument to request a written transcript of the Risk Determination hearing.

• Request for Appeal of Risk Determination Hearing (Form RDH-5): The unaccompanied child, the child's parent/legal guardian, or the child's representative may use this instrument to appeal the decision of the hearing officer.

Once the new risk determination hearing forms are in effect, the UC Program will prepare a non-substantive change request to the Office of Management and Budget (OMB) to discontinue the use of three instruments currently approved under the Legal Services for Unaccompanied Children information collection (OMB# 0970-0565). The forms to be replaced by the Risk Determination Hearing forms described above include the following:

• Request for a Flores Bond Hearing (Form LRG-7)

• Motion Requesting a Bond Hearing—Secure or Staff Secure (Form LRG-8A)

• Motion Requesting a Bond Hearing—Non-Secure (Form LRG-8B)

Respondents: ORR grantee and contractor staff, unaccompanied children, parents/legal guardians of unaccompanied children, attorneys of record, and legal service providers.

Annual Burden Estimates
Instrument | Annual total number of respondents | Annual total number of responses per respondent | Average burden hours per response | Annual total burden hours
Request for Risk Determination Hearing (Form RDH-1) | 435 | 1 | 0.17 | 72.5
Risk Determination Hearing Opt-Out (Form RDH-2) | 435 | 1 | 0.17 | 72.5
Appointment of Representative for Risk Determination Hearing (Form RDH-3) | 1740 | 1 | 0.17 | 290
Risk Determination Hearing Transcript Request (Form RDH-4) | 16 | 1 | 0.17 | 3
Request for Appeal of Risk Determination Hearing (Form RDH-5) | 3 | 1 | 0.17 | .5

Estimated Total Annual Burden Hours: 438.5

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232

Mary C. Jones,
ACF/OPRE Certifying Officer.

[FR Doc. 2024-03018 Filed 2-9-24; 4:15 pm]

BILLING CODE 4184-45-P